DEPARTMENT OF AGRICULTURE

Performance Review Board Membership

AGENCY: Office of Human Resource Management, Departmental Administration, USDA.

ACTION: Notice of Performance Review Board appointments.

SUMMARY: This notice announces the members of the Senior Executive Service (SES) and Senior Level (SL) and Scientific or Professional (ST) Performance Review Board. Agriculture has two PRBs that are represented by each Mission Area. The PRB is comprised of a Chairperson and a mix of career and noncareer senior executives and senior professionals that meet annually to review and evaluate performance appraisal documents and provides a written recommendation to the Secretary for final approval of each executive's performance rating, performance-based pay adjustment, and performance award.

DATES: The board membership is applicable beginning on November 20, 2018.

FOR FURTHER INFORMATION CONTACT: Mary Pletcher Rice, Chief Human Capital Officer, Office of Human Resources Management, telephone: (202) 756-7149, or Natalie Duncan, Executive Director, Executive Resources Management Division, telephone: (202) 720-8629.

SUPPLEMENTARY INFORMATION: In accordance with 5 U.S.C. 4314(c)(4), the USDA PRB members are named below:

Adcock, Rebeckah; Bucknall, Janet; Christensen, Thomas; Dixon, Antoine; Fontinato, Jessica; Hafemeister, Jason; Hamer Jr., Hubert; Harwood, Joy; Hohenstein, William; Jacobs-Young, Chavonda; Jiron, Daniel; Kiecker, Paul; Kriviski, Diane; Leland, Arlean; Liu, Simon; Lyons, Margaret; Mattoo, Autar; McLean, Christopher; McMichael, Stanley; Morris, Erin; Ponti-Lazaruk, Jacqueline; Ricci, Carrie; Wear, David; Williams, Duane; Zakarka, Christine; and Zehren, Christopher J.

Mary Pletcher Rice,
Chief Human Capital Officer, Office of Human Resources Management.

[FR Doc. 2018-26255 Filed 12-6-18; 8:45 am]

BILLING CODE 3410-96-P